DEPARTMENT OF COMMERCE

International Trade Administration

[A-533-824]

Polyethylene Terephthalate Film, Sheet, and Strip From India: Final Results of Antidumping Duty Administrative Review; 2014-2015

AGENCY: Enforcement and Compliance, International Trade Administration, Department of Commerce.

SUMMARY: On August 3, 2016, the Department of Commerce (the Department) published the preliminary results of the 2014-2015 administrative review of the antidumping duty (AD) order on polyethylene terephthalate film, sheet, and strip (PET Film) from India. The period of review (POR) is July 1, 2014, through June 30, 2015. Based on comments received from interested parties, we have made changes to the preliminary results. For the final results of this review, we find that neither Jindal Poly Films Limited (Jindal) nor SRF Limited (SRF) made sales of subject merchandise at less than normal value.

DATES: Effective December 19, 2016.

FOR FURTHER INFORMATION CONTACT: Jacqueline Arrowsmith, AD/CVD Operations, Office VII, Enforcement and Compliance, International Trade Administration, U.S. Department of Commerce, 1401 Constitution Avenue NW., Washington, DC 20230; telephone: (202) 482-5255.

SUPPLEMENTARY INFORMATION:

Background

On August 2, 2016, the Department of Commerce (the Department) published the Preliminary Results.¹ For events that have occurred since the Preliminary Results, see the Issues and Decision Memorandum.² The Issues and Decision Memorandum is a public document and is on file electronically via Enforcement and Compliance's Antidumping and Countervailing Duty Centralized Electronic Service System (ACCESS). ACCESS is available to registered users at http://access.trade.gov, and is available to all parties in the Central Records Unit, room B8024 of the main Department of Commerce building. In addition, a complete version of the Issues and Decision Memorandum can be accessed directly on the Internet at http://trade.gov/login.aspx. The signed Issues and Decision Memorandum and the electronic versions of the Issues and Decision Memorandum are identical in content.

¹ See Polyethylene Terephthalate Film, Sheet, and Strip from India: Preliminary Results and Partial Rescission of Antidumping Duty Administrative Review; 2014-2015, 81 FR 50684 (August 2, 2016) (Preliminary Results).

² See Department Memorandum, “Issues and Decision Memorandum for the Final Results of Antidumping Duty Administrative Review: Polyethylene Terephthalate Film from India; 2014—2015 Administrative Review” (Issues and Decision Memorandum), dated concurrently with, and hereby adopted by, this notice.

Scope of the Order

The products covered by the order are all gauges of raw, pretreated, or primed PET Film, whether extruded or coextruded. Excluded are metallized films and other finished films that have had at least one of their surfaces modified by the application of a performance-enhancing resinous or inorganic layer of more than 0.00001 inches thick. Imports of PET Film are currently classifiable in the Harmonized Tariff Schedule of the United States (HTSUS) under item number 3920.62.00.90. HTSUS subheadings are provided for convenience and customs purposes. The written description of the scope of the order is dispositive.

Analysis of Comments Received

All issues raised in the case brief and rebuttal briefs are addressed in the Issues and Decision Memorandum, which is attached to this notice as an Appendix.

Changes Since the Preliminary Results

Based on our review of the record and comments received from interested parties regarding our Preliminary Results, we made changes to SRF's and Jindal's margin calculations.³ The margins for both SRF and Jindal are now zero. In addition, we adjusted Jindal's reported U.S. prices to account for changes in its export subsidies in the final results of the companion countervailing duty administrative review.⁴ Additionally, for companies not selected for individual review, we have assigned a zero rate in the final results of this review, in accordance with section 735(c)(5) of the Tariff Act of 1930, as amended (the Act).

³ See Memoranda to Thomas Gilgunn, Program Manager “Analysis Memorandum for the Final Results of the Antidumping Duty Administrative Review of Polyethylene Terephthalate Film, Sheet, and Strip from India: Jindal Poly Films Limited, and “Analysis Memorandum for the Final Results of the Antidumping Duty Administrative Review of Polyethylene Terephthalate Film, Sheet, and Strip from India: SRF Limited,” both dated concurrently with these final results.

⁴ See Polyethylene Terephthalate Film, Sheet, and Strip from India: Preliminary Results and Partial Rescission of Countervailing Duty Administrative Review; 2014, 81 FR 51186 (August 3, 2016).

Final Results of Review

As a result of our review, we determine the following weighted-average dumping margins exist for the period July 1, 2014, through June 30, 2015.

⁵ The Initiation Notice lists the company as Jindal Poly Films Limited of India. See Initiation of Antidumping and Countervailing Duty Administrative Reviews, 80 FR 53106 (September 2, 2015).

Producer or Exporter | Weighted-average dumping margin (percent)
Jindal Poly Films Limited ⁵ | 0.00
SRF Limited | 0.00
Garware Polyester Ltd | 0.00
Vacmet India | 0.00

Disclosure

We intend to disclose the calculations performed to parties in this proceeding within five days after the public announcement of the final results, in accordance with section 735(a) of the Act, and 19 CFR 351.224(b).

Assessment Rates

Pursuant to section 751(a)(2(C) of the Act and 19 CFR 351.212(b)(1), the Department determined, and U.S. Customs and Border Protection (CBP) shall assess, antidumping duties on all appropriate entries of subject merchandise, in accordance with the final results of this review. The Department intends to issue assessment instructions to CBP 15 days after the date of publication of the final results of review. Because we have calculated zero margins in the final results of this review for both mandatory respondents during this POR, in accordance with 19 CFR 351.212 we will instruct CBP to liquidate the appropriate entries without regard to antidumping duties.

Pursuant to 19 CFR 351.106(c)(2), we will instruct CBP to liquidate without regard to antidumping duties any entries produced and/or exported by Garware, Jindal, SRF, or Vacmet during the POR.

Cash Deposit Requirements

The following cash deposit requirements will be effective for all shipments of PET Film from India entered, or withdrawn from warehouse, for consumption on or after the date of publication of the final results of this administrative review, as provided for by section 751(a)(2)(C) of the Act: (1) the cash deposit rate for the companies under review will be zero; (2) for previously reviewed or investigated companies not listed above, the cash deposit rate will continue to be the company-specific rate published in the completed segment for the most recent period for that company; (3) if the exporter is not a firm covered in this review, a prior review, or the less-than-fair-value investigation, but the manufacturer is, the cash deposit rate will be the rate established in the completed segment for the most recent period for the manufacturer of the merchandise; and (4) if neither the exporter nor the manufacturer is a firm covered in this or any other completed segment of this proceeding, then the cash deposit rate will be the all others rate for this proceeding, 5.71 percent. These deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notifications to Interested Parties

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

The Department is issuing and publishing these final results of administrative review in accordance with sections 751(a)(1) and 777(i)(1) of the Act, and 19 CFR 351.221.

Dated: December 12, 2016.
Paul Piquado,
Assistant Secretary for Enforcement and Compliance.

APPENDIX

I. Summary

II. Background

Scope of the Order

III. Discussion of the Issues

Comment 1: Issues Requiring Revision to SRF's Program

Comment 2: Whether the Department Should Include Sample Sales in the Margin Calculation for the Final Results

Comment 3: Issue Requiring Revision Jindal's Program

[FR Doc. 2016-30425 Filed 12-16-16; 8:45 am]

BILLING CODE 3510-DS-P